FEDERAL COMMUNICATIONS COMMISSION

47 CFR Part 73

[DA 04-3334, MM Docket No. 01-47, RM-10063, RM-10119, RM-10120]

Radio Broadcasting Services; Brady, Hico, Meridian, San Saba, Richland Springs, Teague, and Valley Mills, TX

AGENCY: Federal Communications Commission.

ACTION: Final rule.

SUMMARY: This document dismisses a petition filed by Valley Mills Radio Broadcasting proposing the allotment of Channel 237C2 at Valley Mills, Texas, as its first local service. See 66 FR 12921, published March 1, 2001. This document grants, in part, a counterproposal filed by Roy Henderson and Pecan Bayou Radio by allotting Channel 285A to Hico, Texas, as its first local service. To accommodate this allotment, the document also substitutes Channel 237A for Channel 285A at Meridian, Texas. This document also grants a counterproposal filed by Teague Broadcasting Company requesting the allotment of Channel 237C3 at Teague, Texas, as its first local service. See SUPPLEMENTARY INFORMATION.

DATES: Effective January 5, 2005.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and Order, MM Docket No. 01-47 adopted October 20, 2004, and released October 25, 2004. The full text of this Commission decision is available for inspection and copying during normal business hours in the Commission's Reference Center, 445 Twelfth Street, SW., Washington, DC 20554. The complete text of this decision may also be purchased from the Commission's duplicating contractor, Best Copy and Printing, Inc., 445 12th Street, SW., Room CY-B402, Washington, DC 20054, telephone 1-800-378-3160 or http://www.BCPIWEB.com. The Commission will send a copy of this Report and Order in a report to be sent to Congress and the General Accounting Office pursuant to the Congressional Review Act, see 5 U.S.C. 801(a)(1)(A).

Channel 285A can be allotted to Hico consistent with the Commission's minimum distance separation requirements at city reference coordinates. The reference coordinates for Channel 285A at Hico are 31-58-54 North Latitude and 98-01-54 West Longitude. Channel 237A can be allotted to Meridian consistent with the Commission's minimum distance separation requirements provided there is a site restriction of 7.4 kilometers (4.6 miles) northwest of the community. The reference coordinates for Channel 237A at Meridian are 31-59-07 North Latitude and 97-41-22 West Longitude. Channel 237C3 can be allotted to Teague, in compliance with the Commission's minimum distance separation requirements provided there is a site restriction of 19.6 kilometers (12.2 miles) north of the community. The reference coordinates for Channel 237C3 at Teague are 31-47-33 North Latitude and 96-12-39 West Longitude.

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Texas, is amended by adding Hico, Channel 285A, by removing Channel 285A and by adding Channel 237A at Meridian; and by adding Teague, Channel 237C3.

Federal Communications Commission.
John A. Karousos,
Assistant Chief, Audio Division, Media Bureau.

[FR Doc. 04-24831 Filed 11-5-04; 8:45 am]

BILLING CODE 6712-01-P